DEPARTMENT OF COMMERCE

Foreign-Trade Zone Board

[Order No. 1275]

Termination of Foreign-Trade Subzone 25A, Weston, FL

Pursuant to the authority granted in the Foreign-Trade Zones Act of June 18, 1934, as amended (19 U.S.C. 81a-81u), and the Foreign-Trade Zone Board Regulations (15 CFR part 400,) the Foreign-Trade Zones Board has adopted the following order:

Whereas, on December 23, 1996, the Foreign-Trade Zones Board issued a grant of authority to the Port Everglades Department of Broward County (the Port), authorizing the establishment of Foreign-Trade Subzone 25A at the Federal Mogul Corporation plant in Weston, Florida (Board Order 860, 62 FR 1314, 1/9/97);

Whereas, the Port advised the Board on July 22, 2002 (FTZ Docket 7-2003), that zone procedures were no longer needed at the facility and requested voluntary termination of Subzone 25A;

Whereas, the request has been reviewed by the FTZ Staff and Customs officials and approval has been recommended;

Now, therefore, the Foreign-Trade Zones Board terminates the subzone status of Subzone 25A, effective this date.

Signed at Washington, DC, this 14th day of May 2003.
Jeffrey A. May,
Acting Assistant Secretary of Commerce for Import Administration, Alternate Chairman, Foreign-Trade Zone Board.

[FR Doc. 03-12879 Filed 5-21-03; 8:45 am]

BILLING CODE 3510-DS-P